DEPARTMENT OF TRANSPORTATION

Maritime Administration

[Docket No. DOT-MARAD-2017-0191]

Request for Comments on the Renewal of a Previously Approved Information Collection: Request for Waiver of Service Obligation, Request for Deferment of Services Obligation, Application for Review

AGENCY: Maritime Administration, DOT.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on September 11, 2017 (Federal Register 42717, Vol. 82, No. 174).

DATES: Comments must be submitted on or before January 4, 2018.

ADDRESSES: Send comments regarding the burden estimate, including suggestions for reducing the burden, to the Office of Management and Budget, Attention: Desk Officer for the Office of the Secretary of Transportation, 725 17th Street NW., Washington, DC 20503.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Danielle Bennett (202) 366-5296, Office of Maritime Labor and Training, U.S. Department of Transportation, 1200 New Jersey Avenue SE., Washington, DC 20590.

SUPPLEMENTARY INFORMATION:

Title: Request for Waiver of Service Obligation, Request for Deferment of Services Obligation, Application for Review.

OMB Control Number: 2133-0510.

Type of Request: Renewal of a Previously Approved Information Collection.

Abstract: This information collection is essential for determining if a student or graduate of the United States Merchant Marine Academy (USMMA) or subsidized student or graduate of a State maritime academy has a waivable situation preventing them from fulfilling the requirements of a service obligation contract signed at the time of their enrollment in a Federal maritime training program. It also permits the Maritime Administration (MARAD) to determine if a graduate, who wishes to defer the service obligation to attend graduate school, is eligible to receive a deferment. Their service obligation is required by law.

Respondents: U.S. Merchant Marine Academy students and graduates and subsidized students and graduates.

Affected Public: U.S. Merchant Marine Academy students and graduates and subsidized students and graduates.

Estimated Number of Respondents: 11.

Estimated Number of Responses: 11.

Estimated Hours per Response: 30 minutes.

Annual Estimated Total Annual Burden Hours: 5.30.

Frequency of Response: Annually.

Authority: The Paperwork Reduction Act of 1995; 44 U.S.C. Chapter 35, as amended; and 49 CFR 1.93. * * *

By Order of the Maritime Administrator.
Dated: November 30, 2017.
T. Mitchell Hudson, Jr.,
Secretary, Maritime Administration.

[FR Doc. 2017-26171 Filed 12-4-17; 8:45 am]

BILLING CODE 4910-81-P